DEPARTMENT OF COMMERCE

International Trade Administration

[A-570-869, A-428-831, A-475-831, A-423-810, A-821-814, A-791-811, A-469-811, A-583-838]

Notice of Postponement of Preliminary Antidumping Duty Determinations: Structural Steel Beams From the People's Republic of China, Germany, Italy, Luxembourg, Russia, South Africa, Spain, and Taiwan

AGENCY: Import Administration, International Trade Administration, Department of Commerce.

SUMMARY: We are postponing the preliminary determinations in the antidumping duty investigations of structural steel beams from the People's Republic of China, Germany, Italy, Luxembourg, Russia, South Africa, Spain, and Taiwan.

EFFECTIVE DATE: November 6, 2001.

FOR FURTHER INFORMATION CONTACT: David Goldberger (Luxembourg) at (202) 482-4136; Katherine Johnson (Taiwan) at (202) 482-4929; Lyn Johnson (People's Republic of China) at (202) 482-5287; Thomas Schauer (Germany) at (202) 482-0410; Alysia Wilson (Italy) at (202) 482-0108; Hermes Pinilla (Russia) at (202) 482-3477; David Dirstine (South Africa) at (202) 482-4033; and Jennifer Gehr (Spain) at (202) 482-1779; Import Administration, International Trade Administration, U.S. Department of Commerce, 14th Street and Constitution Avenue, NW., Washington, DC 20230.

Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (April 2001).

Postponement of Preliminary Determinations

On June 12, 2001, the Department published the initiation of the antidumping duty investigations of imports of structural steel beams from People's Republic of China, Germany, Italy, Luxembourg, Russia, South Africa, Spain, and Taiwan. The notice of initiation stated that we would make our preliminary determinations for these antidumping duty investigations no later than 140 days after the date of issuance of the initiation (i.e., October 30, 2001). See Notice of Initiation of Antidumping Duty Investigations: Structural Steel Beams From the People's Republic of China, Germany, Italy, Luxembourg, Russia, South Africa, Spain, and Taiwan, 66 FR 33048 (June 12, 2001).

On September 25, 2001, the petitioners ¹ made a timely request pursuant to 19 CFR 351.205(e) for a 31-day postponement of the preliminary determinations. On October 2, 2001, we postponed the preliminary determinations under section 733(c)(1) of the Act until November 30, 2001.

¹ The petitioners are Committee for Fair Beam Imports (“CFBI”) and its individual members, Northwestern Steel and Wire Company, Nucor Corporation, Nucor-Yamato Steel Company, and TXI-Chaparral Steel Company.

On October 30, 2001, the petitioners made a timely request pursuant to 19 CFR 351.205(e) for an additional 19-day postponement of the preliminary determinations, or until December 19, 2001. The petitioners requested this extension in order to allow the Department sufficient time to gather information necessary for its preliminary determinations.

For the reasons identified by the petitioners, and because there are no compelling reasons to deny the request, we are postponing the preliminary determinations under section 733(c)(1) of the Act. We will make our preliminary determinations no later than December 19, 2001.

This notice is published pursuant to sections 733(f) and 777(i) of the Act.

Dated: October 31, 2001.
Faryar Shirzad,
Assistant Secretary for Import Administration.

[FR Doc. 01-27855 Filed 11-5-01; 8:45 am]

BILLING CODE 3510-DS-P